DEPARTMENT OF HOMELAND SECURITY

Federal Emergency Management Agency

[Docket ID FEMA-2015-0001; Internal Agency Docket No. FEMA-B-1537]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: September 9, 2015.
Roy E. Wright,
Deputy Associate Administrator for Insurance and Mitigation, Department of Homeland Security, Federal Emergency Management Agency.

State and county | Location and case No. | Chief executive officer of community | Community map repository | Online location of letter of map revision | Effective date of modification | Community, No.
Arizona:
Maricopa | City of Chandler, (15-09-0578P) | The Honorable Jay Tibshraeny, Mayor, City of Chandler, 175 South Arizona Avenue, Chandler, AZ 85225 | Public Works Department, 215 East Buffalo Street, Chandler, AZ 85244 | http://www.msc.fema.gov/lomc | Oct. 9, 2015 | 040040
Maricopa | City of Goodyear, (15-09-0312P) | The Honorable Georgia Lord, Mayor, City of Goodyear, 190 North Litchfield Road, Goodyear, AZ 85338 | City Hall, 190 North Litchfield Road, Goodyear, AZ 85338 | http://www.msc.fema.gov/lomc | Dec. 4, 2015 | 040046
Maricopa | Town of Gilbert, (15-09-0578P) | The Honorable John Lewis, Mayor, Town of Gilbert, 50 East Civic Center Drive, Gilbert, AZ 85296 | Municipal Center, 50 East Civic Center Drive, Gilbert, AZ 85296 | http://www.msc.fema.gov/lomc | Oct. 9, 2015 | 040044
Maricopa | Unincorporated areas of Maricopa County, (15-09-0312P) | The Honorable Steve Chucri, Chairman, Maricopa County Board of Supervisors, 301 W. Jefferson, 10th Floor, Phoenix, AZ 85003 | Flood Control District of Maricopa County, 2801 West Durango Street, Phoenix, AZ 85009 | http://www.msc.fema.gov/lomc | Dec. 4, 2015 | 040037
Maricopa | Unincorporated areas of Maricopa County, (15-09-0578P) | The Honorable Denny Barney, District 1 Supervisor Maricopa County, 301 West Jefferson Street, Phoenix, AZ 85003 | Flood Control District, Maricopa County, 2801 West Durango Street, Phoenix, AZ 85009 | http://www.msc.fema.gov/lomc | Oct. 9, 2015 | 040037
Pima | City of Tucson, (15-09-0584P) | The Honorable Jonathan Rothschild, Mayor, City of Tucson, City Hall, 255 W. Alameda St., Tucson, AZ 85701 | Planning and Development Services, 201 North Stone Avenue, 1st Floor, Tucson, AZ 85701 | http://www.msc.fema.gov/lomc | Nov. 13, 2015 | 040076
California:
Los Angeles | City of Burbank, (15-09-0591P) | The Honorable Bob Frutos, Mayor, City of Burbank, 275 East Olive Avenue, Burbank, CA 91502 | Public Works Department, 275 East Olive Avenue, Burbank, CA 91502 | http://www.msc.fema.gov/lomc | Dec. 10, 2015 | 065018
Sacramento | City of Citrus Heights, (15-09-1345P) | The Honorable Sue Frost, Mayor, City of Citrus Heights, 6237 Fountain Square Drive, Citrus Heights, CA 95621 | General Services Department, Engineering Division, 6237 Fountain Square Drive, Citrus Heights, CA 95621 | http://www.msc.fema.gov/lomc | Oct. 22, 2015 | 060765
San Diego | City of Santee, (15-09-0699P) | The Honorable Randy Voepel, Mayor, City of Santee, 10601 Magnolia Avenue, Santee, CA 92071 | City Hall, 10601 Magnolia Avenue, Santee, CA 92071 | http://www.msc.fema.gov/lomc | Nov. 20, 2015 | 060703
Ventura | City of Simi Valley, (15-09-1169P) | The Honorable Bob Huber, Mayor, City of Simi Valley, 2929 Tapo Canyon Road, Simi Valley, CA 93063 | Public Works Department, 2929 Tapo Canyon Road, Simi Valley, CA 93063 | http://www.msc.fema.gov/lomc | Oct. 19, 2015 | 060421
Nevada:
Clark | City of Henderson, (15-09-0952P) | The Honorable Andy A. Hafen, Mayor, City of Henderson, 240 Water Street, Henderson, NV 89015 | Public Works Department, 240 Water Street, Henderson, NV 89015 | http://www.msc.fema.gov/lomc | Dec. 10, 2015 | 320005
Clark | Unincorporated areas of Clark County, (15-09-1082P) | The Honorable Steve Sisolak, Chairman, Clark County Board of Commissioners, 500 South Grand Central Parkway, Las Vegas, NV 89155 | Office of the Director of Public Works, 500 South Grand Central Parkway, Las Vegas, NV 89155 | http://www.msc.fema.gov/lomc | Oct. 14, 2015 | 320003

[FR Doc. 2015-24753 Filed 9-29-15; 8:45 am]

BILLING CODE 9110-12-P